DEPARTMENT OF HOMELAND SECURITY

Federal Emergency Management Agency

[Docket ID FEMA-2013-0002]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Arizona: Maricopa (FEMA Docket No.: B-1249) | Town of Wickenburg (11-09-3523P) | The Honorable Kelly Blunt, Mayor, Town of Wickenburg, 155 North Tegner Street, Suite A, Wickenburg, AZ 85390 | 155 North Tegner Street, Suite A, Wickenburg, AZ 85390 | May 4, 2012 | 040056
Maricopa (FEMA Docket No.: B-1249) | Unincorporated areas of Maricopa County (11-09-3523P) | The Honorable Don Stapley, District 2 Supervisor, 301 West Jefferson, 10th Floor, Phoenix, AZ 85003 | 301 West Jefferson, 10th Floor, Phoenix, AZ 85003 | May 4, 2012 | 040037
Maricopa (FEMA Docket No.: B-1277) | City of Goodyear (12-09-1467P) | The Honorable Georgia Lord, Mayor, City of Goodyear, 190 North Litchfield Road, Goodyear, AZ 85338 | 119 North Litchfield Road, Goodyear, AZ 85338 | November 30, 2012 | 040046
Maricopa (FEMA Docket No.: B-1277) | Unincorporated areas of Maricopa County (12-09-1467P) | The Honorable Max Wilson, Chair, Maricopa County, Board of Supervisors, 301 West Jefferson Street, Phoenix, AZ 85003 | 2801 West Durango Street, Phoenix, AZ 85009 | November 30, 2012 | 040037
Maricopa (FEMA Docket No.: B-1277) | City of Avondale (12-09-1467P) | The Honorable Marie Lopez Rogers, Mayor, City of Avondale, 11465 West Civic Center Drive, Avondale, AZ 85323 | 1225 South 4th Street, Avondale, AZ 85323 | November 30, 2012 | 040038
Maricopa (FEMA Docket No.: B-1277) | Unincorporated areas of Maricopa County (12-09-1031P) | The Honorable Don Stapley, Maricopa County, District 5 Supervisor, 301 West Jefferson Street, Phoenix, AZ 85003 | 2801 West Durango Street, Phoenix, AZ 85009 | December 7, 2012 | 040037
California: Orange (FEMA Docket No.: B-1277) | City of Irvine (12-09-1694P) | The Honorable Sukhee Kang, Mayor, City of Irvine, 1 Civic Center Plaza, Irvine, CA 92606 | 1 Civic Center Plaza, Irvine, CA 92606 | November 7, 2012 | 060222
Ventura (FEMA Docket No.: B-1273) | City of Moorpark (12-09-0985P) | The Honorable Janice Parvin, Mayor, City of Moorpark, 799 Moorpark Avenue, Moorpark, CA 93021 | 18 High Street, Moorpark, CA 93021 | July 18, 2012 | 060712
Colorado: El Paso (FEMA Docket No.: B-1277) | City of Fountain (12-08-0499P) | The Honorable Jeri Howells, Mayor, City of Fountain, 116 South Main Street, Fountain, CO 80817 | 116 South Main Street, Fountain, CO 80817 | December 12, 2012 | 080061
El Paso (FEMA Docket No.: B-1277) | Unincorporated areas of El Paso County (12-08-0499P) | The Honorable Amy Lathen, Chair, El Paso County Board of Commissioners, 200 South Cascade Avenue, Suite 100, Colorado Springs, CO 80903 | El Paso County Building Department, 2880 International Circle, Colorado Springs, CO 80910 | December 12, 2012 | 080059
Connecticut: New Haven (FEMA Docket No.: B-1277) | Town of East Haven (11-01-2488P) | The Honorable Joseph Maturo Jr., Mayor, Town of East Haven, 250 Main Street, East Haven, CT 06512 | 461 North High Street, East Haven, CT 06512 | October 5, 2012 | 090076
New Haven (FEMA Docket No.: B-1277) | City of New Haven (11-01-2488P) | The Honorable John Destefano, Jr., Mayor, City of New Haven, 165 Church Street, New Haven, CT 06510 | 200 Orange Street, New Haven, CT 06510 | October 5, 2012 | 090084
New Haven (FEMA Docket No.: B-1277) | City of Meriden (11-01-2893P) | The Honorable Michael S. Rohde, Mayor, City of Meriden, 142 East Main Street, Meriden, CT 06450 | 142 East Main Street, Meriden, CT 06450 | December 7, 2012 | 090081
Idaho: Ada (FEMA Docket No.: B-1273) | City of Boise (11-10-1081P) | The Honorable David H. Biester, Mayor, City of Boise, 150 North Capitol Boulevard, Boise, ID 83702 | 150 North Capitol Boulevard, Boise, ID 83702 | June 15, 2012 | 160002
Ada (FEMA Docket No.: B-1273) | Unincorporated areas of Ada County (11-10-1081P) | The Honorable Rick Yzaguirre, Chair, Ada County Board of Commissioners, 200 West Front Street, 3rd floor, Boise, ID 83702 | 200 West Front Street, 3rd Floor, Boise, ID 83702 | June 15, 2012 | 160001
Ada (FEMA Docket No.: B-1277) | City of Eagle (12-10-0460P) | The Honorable Jim Reynolds, Mayor, City of Eagle, 660 East Civic Lane, Eagle, ID 83616 | 660 East Civic Lane, Eagle, ID 83616 | October 5, 2012 | 160003
Ada (FEMA Docket No.: B-1277) | Unincorporated areas of Ada County (12-10-0460P) | The Honorable Rick Yzaguirre, Chairman, Ada County Board of Commisioners, 200 West Front Street, Boise, ID 83702 | 200 West Front Street, Boise, ID 83702 | October 5, 2012 | 160001
Blaine (FEMA Docket No.: B-1249) | City of Hailey (11-10-1694P) | The Honorable Rick Davis, Mayor, City of Hailey, 115 Main Street South, Suite H, Hailey, ID 83333 | 115 Main Street, Hailey, ID 83333 | May 10, 2012 | 160022
Blaine (FEMA Docket No.: B-1273) | City of Hailey (12-10-0384P) | The Honorable Fritz Haemmerle, Mayor, City of Hailey, 115 Main Street South, Suite H, Hailey, ID 83333 | 115 Main Street South, Suite H, Hailey, ID 83333 | July 5, 2012 | 160022
Latah (FEMA Docket No.: B-1249) | Unincorporated areas of Latah County (11-10-1485P) | The Honorable Jennifer Barrett, Chair, Latah County Board of Commissioners, 522 South Adams Street, Moscow, ID 83843 | 522 South Adams Street, Moscow, ID 83843 | May 11, 2012 | 160086
Illinois: DuPage (FEMA Docket No.: B-1277) | City of Elmhurst (12-05-5094P) | The Honorable Peter P. DiCianni, Mayor, City of Elmhurst, 209 North York Street, Elmhurst, IL 60126 | 209 North York Street, Elmhurst, IL 60126 | November 30, 2012 | 170205
Effingham (FEMA Docket No.: B-1273) | City of Effingham (11-05-5866P) | The Honorable Merv Gillenwater, Mayor, City of Effingham, 201 East Jefferson Avenue, Effingham, IL 62401 | 201 East Jefferson Avenue, Effingham, IL 62401 | July 24, 2012 | 170229
Kane (FEMA Docket No.: B-1277) | City of Aurora (12-05-2993P) | The Honorable Thomas Weisner, Mayor, City of Aurora, 44 East Downer Place, Aurora, IL 60507 | 44 East Downer Place, Aurora, IL 60507 | November 16, 2012 | 170320
Kendall (FEMA Docket No.: B-1273) | City of Sandwich (12-05-0175P) | The Honorable Tom Thomas, Mayor, City of Sandwich, 144 East Railroad Street, Sandwich, IL 60548 | 144 East Railroad Street, Sandwich, IL 60548 | July 13, 2012 | 170188
Kendall (FEMA Docket No.: B-1273) | Unincorporated areas of Kendall County (12-05-0175) | Mr. John Purcell Kendall, County Board Chairman, 111 West Fox Street, Yorkville, IL 60560 | 111 West Fox Street, Yorkville, IL 60560 | July 13, 2012 | 170341
McHenry (FEMA Docket No.: B-1249) | City of Crystal Lake (11-05-7872P) | The Honorable Aaron T. Shepley, Mayor, City of Crystal Lake, 100 West Woodstock Street, Crystal Lake, IL 60014 | 100 West Woodstock Street, Crystal Lake, IL 60014 | May 21, 2012 | 170476
McLean (FEMA Docket No.: B-1273) | City of Bloomington (11-05-3513P) | The Honorable Stephen F. Stockton, Mayor, City of Bloomington, 109 East Olive Street, Bloomington, IL 61701 | 109 East Olive Street, Bloomington, IL 61701 | July 13, 2012 | 170490
McLean (FEMA Docket No.: B-1273) | Unincorporated areas of McLean County (11-05-3513P) | The Honorable Matt Sorenson, McLean, County Board Chairman, 115 East Washington Street, Room 401, Bloomington, IL 61701 | 115 East Washington Street, Room M102, Bloomington, IL 61701 | July 13, 2012 | 170931
Tazewell (FEMA Docket No.: B-1273) | City of Washington (11-05-7882P) | The Honorable Gary W. Manier, Mayor, City of Washington, 301 Walnut Street, Washington, IL 61571 | 301 Walnut Street, Washington, IL 61571 | July 12, 2012 | 170655
Will (FEMA Docket No.: B-1273) | Village of Romeoville (11-05-0953P) | The Honorable John Noak, Mayor, Village of Romeoville, 1050 West Romeo Road, Romeoville, IL 60446 | 1050 West Romeo Road, Romeoville, IL 60446 | July 20, 2012 | 170711
Will (FEMA Docket No.: B-1273) | Village of Plainfield (11-05-6606P) | The Honorable Michael P. Collins, President, Village of Plainfield, 24401 West Lockport Street, Plainfield, IL 60544 | 24401 West Lockport Street, Plainfield, IL 60544 | June 8, 2012 | 170771
Will (FEMA Docket No.: B-1273) | Unincorporated areas of Will County (11-05-6606P) | The Honorable Lawrence M. Walsh, Will County Executive, 302 North Chicago Street, Joliet, IL 60432 | 58 East Clinton Street, Suite 500, Joliet, IL 60432 | June 8, 2012 | 170695
Will (FEMA Docket No.: B-1249) | Village of Romeoville (11-05-7401P) | The Honorable John Noak, Mayor, Village of Romeoville, 13 Montrose Drive, Romeoville, IL 60446 | 1050 West Romeo Road, Romeoville, IL 60446 | June 1, 2012 | 170711
Iowa: Black Hawk (FEMA Docket No.: B-1273) | City of Cedar Falls (11-07-1543P) | The Honorable Jon Crews, Mayor, City of Cedar Falls, 220 Clay Street, Cedar Falls, IA 50613 | 220 Clay Street, Cedar Falls, IA 50613 | June 8, 2012 | 190017
Indiana: Allen (FEMA Docket No.: B-1277) | Unincorporated areas of Allen County (12-05-1513P) | The Honorable Nelson Peters, President, Allen County Board of Commissioners, 200 East Berry Street, Suite 410, Fort Wayne, IN 46802 | 1 East Main Street, Room 630, Fort Wayne, IN 46802 | November 13, 2012 | 180302
Lake (FEMA Docket No.: B-1277) | City of New Haven (12-05-1513P) | The Honorable Terry E. McDonald, Mayor, City of New Haven, 815 Lincoln Highway East, New Haven, IN 46774 | 815 Lincoln Highway East, New Haven, IN 46774 | November 13, 2012 | 180004
Lake (FEMA Docket No.: B-1277) | City of Hobart (12-05-0788P) | The Honorable Brian K. Snedecor, Mayor, City of Hobart, 414 Main Street, Hobart, IN 46342 | 414 Main Street, Hobart, IN 46342 | December 3, 2012 | 180136
Kansas: Johnson (FEMA Docket No.: B-1277) | City of Roeland Park (11-07-3430P) | The Honorable Adrienne Foster, Mayor, City of Roeland Park, 4600 West 51st Street, Roeland Park, KS 66205 | 4600 West 51st Street, Roeland Park, KS 66205 | November 14, 2012 | 200176
Johnson (FEMA Docket No.: B-1277) | City of Fairway (11-07-3430P) | The Honorable Jerry Wiley, Mayor, City of Fairway, 4210 Shawnee Mission Parkway, Suite 100, Fairway, KS 66205 | 5252 Beliner Road, Fairway, KS 66205 | November 14, 2012 | 205185
Johnson (FEMA Docket No.: B-1277) | City of Roeland Park (11-07-3422P) | The Honorable Adrienne Foster, Mayor, City of Roeland Park, 4600 West 51st Street, Roeland Park, KS 66205 | 4600 West 51st Street, Roeland Park, KS 66205 | November 7, 2012 | 200176
McPherson (FEMA Docket No.: B-1273) | City of McPherson (12-07-0044P) | The Honorable Thomas A. Brown, Mayor, City of McPherson, 400 East Kansas Avenue, McPherson, KS, 67460 | 400 East Kansas Avenue, McPherson, KS 67460 | June 27, 2012 | 200217
Sedgwick (FEMA Docket No.: B-1273) | City of Wichita (11-07-2738P) | The Honorable Carl Brewer, Mayor, City of Withita, 455 North Main Street, Wichita, KS 67202 | 455 North Main Street, Wichita, KS 67202 | June 19, 2012 | 200328
Sedgwick (FEMA Docket No.: B-1273) | Unincorporated areas of Sedgwick County (11-07-2738P) | The Honorable Tim R. Norton, Sedgwick County Board of Commissioners, 525 North Main Street, Suite 320, Wichita, KS 67203 | 1144 South Seneca Street, Wichita, KS 67213 | June 19, 2012 | 200321
Maine:
Washington | Town of Milbridge (12-01-1740P) | The Honorable Lewis M. Pinkham, Town Manager, Town of Milbridge, 22 School Street, Milbridge, ME 04658 | 22 School Street, Milbridge, ME 04658 | December 19, 2012 | 230142
Cumberland | City of Portland (12-01-0692P) | The Honorable Michael Brennan, Mayor, City of Portland, 389 Congress Street, Portland, ME 04101 | 389 Congress Street, Room 315, Portland, ME 04101 | November 9, 2012 | 230051
Penobscot | Town of Hermon (12-01-0085P) | The Honorable Tim McCluskey, Chairman, Town of Hermon Council, 333 Billings Road, Hermon, ME 04401 | 333 Billings Road, Hermon, ME 04401 | October 12, 2012 | 230389
Lincoln (FEMA Docket No.: B-1273) | Town of Southport (11-01-1247P) | The Honorable Gerald Gamage, Town of Southport, Town Selectman, 361 Hendricks Hill Road, Southport, ME 04576 | 361 Hendricks Hill Road, Southport, ME 04576 | June 8, 2012 | 230221
Minnesota:
Dakota (FEMA Docket No.: B-1249) | City of Inver Grove Heights (11-05-5362P) | The Honorable George Tourville, Mayor, City of Inver Grove Heights, 8150 Barbara Avenue, Inver Grove Heights, MN 55077 | 8150 Barbara Avenue, Inner Grove Heights, Minnesota, 55077 | May 21, 2012 | 270106
Rice (FEMA Docket No.: B-1273) | City of Fairbault (12-05-1808P) | The Honorable John Jasinski, Mayor, City of Fairbault, Fairbault City Hall, 208 1st Avenue Northwest, Fairbault, MN 55021 | 208 1st Avenue, Northwest, Fairbault, MN 55021 | July 6, 2012 | 270404
Washington (FEMA Docket No.: B-1249) | Unincorporated areas of Washington County (11-05-5362P) | The Honorable Gary Kriesel, Chairman, Washington County Board of Commissioners, 14949 62nd Street North, Stillwater, MN 55082 | 14949 62nd Street North, Stillwater, MN 55082 | May 21, 2012 | 270499
Washington (FEMA Docket No.: B-1249) | City of Newport (11-05-5362P) | The Honorable Tim Geraghty, Mayor, City of Newport, 596 7th Avenue, Newport, MN 55055 | 596 7th Avenue, Newport, MN 55055 | May 21, 2012 | 270510
Washington (FEMA Docket No.: B-1249) | City of St. Paul Park (11-05-5362P) | The Honorable John Hunziker, Mayor, City of St. Paul Park, 600 Portland Avenue, St. Paul Park, MN 55071 | 600 Portland Avenue, St. Paul Park, MN 55071 | May 21, 2012 | 270514
Missouri:
St. Charles (FEMA Docket No.: B-1273) | City of Chesterfield (11-07-3427P) | The Honorable Bruce Geiger, Mayor, City of Chesterfield, 690 Chesterfield Parkway West, Chesterfield, MO 63017 | 690 Chesterfield Parkway West, Chesterfield, MO 63017 | July 6, 2012 | 290896
St. Charles (FEMA Docket No.: B-1273) | Unincorporated areas of St. Charles County (11-07-3427P) | The Honorable Steve Ehlmann, St. Charles County Executive, 100 North 3rd Street, St. Charles, MO 63301 | 300 North 2nd Street, St. Charles, MO 63301 | July 6, 2012 | 290315
Jackson (FEMA Docket No.: B-1273) | City of Independence (11-07-2613P) | The Honorable Don B. Remial, Mayor, City of Independence, 111 East Maple Avenue, Independence, MO 64050 | 111 East Maple Avenue, Independence, MO 64050 | July 13, 2012 | 290172
St. Louis (FEMA Docket No.: B-1273) | Unincorporated areas of St. Louis County (11-07-2794P) | The Honorable Charlie A. Dooley, St. Louis, County Executive, 41 South Central Avenue, Clayton, MO 63105 | 41 South Central Avenue, Clayton, MO 63105 | July 17, 2012 | 290327
Ohio:
Franklin (FEMA Docket No.: B-1249) | City of Reynoldsburg (11-05-8753P) | The Honorable Brad McCloud, Mayor, City of Reynoldsburg, 7232 East Main Street, Reynoldsburg, OH 43068 | 7232 East Main Street, Reynoldsburg, OH 43068 | June 4, 2012 | 390177
Licking (FEMA Docket No.: B-1249) | Village of Granville (11-05-5165P) | The Honorable Melissa Hartfield, Mayor, Village of Granville, 141 East Broadway, Granville, OH 43023 | 141 East Broadway, Granville, OH 43023 | May 4, 2012 | 390330
Licking (FEMA Docket No.: B-1249) | Unincorporated areas of Licking County (11-05-5165P) | The Honorable Timothy Bubb, President, Licking County Commissioners, 20 South Second Street, Newark, OH 43055 | 20 South Second Street, Newark, OH 43055 | May 4, 2012 | 390328
Clinton (FEMA Docket No.: B-1273) | Village of Sabina (12-05-0889P) | The Honorable Dean Carnahan, Mayor, Village of Sabina, 99 North Howard Street, Sabina, OH 45169 | 99 North Howard Street, Sabina, OH 45169 | May 3, 2012 | 390627
Cuyahoga (FEMA Docket No.: B-1273) | City of Beachwood (12-05-2285P) | The Honorable Merle S. Gorden, Mayor, City of Beachwood, 25325 Fairmont Boulevard, Beachwood, OH 44122 | 25325 Fairmont Boulevard, Beachwood, OH 44122 | June 29, 2012 | 390094
Oregon:
Jackson (FEMA Docket No.: B-1249) | Unincorporated areas of Jackson County (11-10-1732P) | The Honorable Dennis C.W. Smith, Jackson County Chairman, Board of Commissioners, Jackson County Courthouse, Room 214, 10 South Oakdale Avenue, Medford, OR 97501 | Jackson County Courthouse, Room 214, 10 South Oakdale Avenue, Medford, OR 97501 | May 2, 2012 | 415589
Jackson (FEMA Docket No.: B-1249) | City of Medford (11-10-1732P) | The Honorable Gary H. Wheeler, Mayor, City of Medford, 411 West 8th Street, Medford, OR 97501 | 411 West 8th Street, Medford, OR 97501 | May 2, 2012 | 410096
Washington: DC (FEMA Docket No.: B-1273) | District of Columbia (12-03-0808P) | The Honorable Vincent C. Gray, Mayor, District of Columbia, 1350 Pennsylvania Avenue, Northwest, Washington, DC 20004 | 1200 1st Street, Northeast, 5th Floor, Washington, DC 20002 | July 20, 2012 | 110001
West Virginia:
Jefferson (FEMA Docket No.: B-1249) | City of Ranson (11-03-1484P) | The Honorable A. David Hamill, Mayor, City of Ranson, 312 South Mildred Street, Ranson, WV 25438 | 312 South Mildred Street, Ranson, WV 25438 | May 23, 2012 | 540068
Jefferson (FEMA Docket No.: B-1249) | Unincorporated areas of Jefferson County (11-03-1484P) | The Honorable Patsy Noland, President, Jefferson County Commission, 124 East Washington Street, Charlestown, WV 25414 | 124 East Washington Street, Charlestown, WV 25414 | May 23, 2012 | 540065
Wisconsin:
Barron (FEMA Docket No.: B-1249) | Unincorporated areas of Barron County (12-05-0299P) | The Honorable James A. Miller, Barron County Board Chairman, 330 East LaSalle Avenue, Barron, WI 54812 | 330 East LaSalle Avenue, Barron, WI 54812 | May 10, 2012 | 550568
Outagamie (FEMA Docket No.: B-1249) | City of Appleton (11-05-7670P) | The Honorable Timothy Hanna, Mayor, City of Appleton, 100 North Appleton Street, Appleton, WI 54911 | 100 North Appleton Street, Appleton, WI 54911 | May 9, 2012 | 555542
Columbia (FEMA Docket No.: B-1249) | City of Columbus (11-05-4519P) | The Honorable Bob Link, Mayor, City of Columbus, 103 Wildwood Drive, Columbus, WI 53925 | 105 North Dickason Boulevard, Columbus, WI 53925 | May 29, 2012 | 550058
Columbia (FEMA Docket No.: B-1249) | Unincorporated areas of Columbia County (11-05-4519P) | The Honorable Robert Westby, Columbia County Board Chairman, 400 DeWitt Street, Portage, WI 53901 | 400 DeWitt Street, Portage, WI 53901 | May 29, 2012 | 550581
Rock (FEMA Docket No.: B-1273) | Unincorporated areas of Rock County (12-05-1647P) | The Honorable J. Russell Podzilni, Chair, Rock County Board of Supervisors, 51 South Main Street, Janesville, WI 53545 | 51 South Main Street, Janesville, WI 53545 | July 11, 2012 | 550363
Racine (FEMA Docket No.: B-1273) | City of Burlington (11-05-2911P) | The Honorable Robert Miller, Mayor, City of Burlington, 300 North Pine Street, Burlington, WI 53105 | 300 North Pine Street, Burlington, WI 53105 | June 8, 2012 | 550348
Racine (FEMA Docket No.: B-1273) | Unincorporated areas of Racine County (11-05-2911P) | The Honorable James A. Ladwig, Racine County Executive, 730 Wisconsin Avenue, Racine, WI 53403 | 14200 Washington Avenue, Sturtevant, WI 53177 | June 8, 2012 | 550347
Walworth (FEMA Docket No.: B-1273) | Unincorporated areas of Walworth County (11-05-4839P) | The Honorable David Bretl, Walworth County Administrator, 100 West Walworth Street, Elkhorn, WI 53121 | 100 West Walworth Street, Elkhorn, WI 53121 | June 4, 2012 | 550462
Washington (FEMA Docket No.: B-1273) | Unincorporated areas of Washington County (11-05-6560P) | The Herbert J. Tennies Washington County Board Chairperson, 432 East Washington Street, Suite 3029, West Bend, WI 53095 | 333 East Washington Street, Suite 2300, West Bend, WI 53095 | June 8, 2012 | 550471

(Catalog of Federal Domestic Assistance No. 97.022, “Flood Insurance.”)

James A. Walke,
Acting Deputy Associate Administrator for Mitigation, Department of Homeland Security, Federal Emergency Management Agency.

[FR Doc. 2013-02441 Filed 2-4-13; 8:45 am]

BILLING CODE 9110-12-P